DEPARTMENT OF LABOR

Employment and Training Administration

[TA-W-64,401]

Amended Certification Regarding Eligibility To Apply for Worker Adjustment Assistance and Alternative Trade Adjustment Assistance

Qimonda 200 MM Facility Including On-Site Leased Workers from Tokyo Electron America and Nikon Precision, Inc., Qimonda North America Corporation, Qimonda Richmond, a Subsidiary of Qimonda AG and Aviza Technology, Inc., Sandston, Virginia.

In accordance with Section 223 of the Trade Act of 1974 (19 U.S.C. 2273), and Section 246 of the Trade Act of 1974 (26 U.S.C. 2813), as amended, the Department of Labor issued an Amended Certification of Eligibility to Apply for Worker Adjustment Assistance and Alternative Trade Adjustment Assistance on August 7, 2009, applicable to workers of Qimonda 200MM Facility, including on-site leased workers from Tokyo Electron America, Nikon Precision, Inc., Ebara Technologies, Inc., Air Products and Chemicals, Inc., PSI Repair Services, Excel Logistics, Xperts, Inc., KLA-Tencor Craftcorps, Inc., Colonial Webb and Novellus Systems, Inc., and Quimonda North America Corporation, Qimonda Richmond, A subsidiary of Qimonda AG, Sandston, Virginia. The notice was published in the Federal Register on August 26, 2009 (74 FR 43157).

At the request of the State agency, the Department reviewed the certification for workers of the subject firm. The workers are engaged in the production of DRAM semiconductor wafers.

New information shows that workers leased from Aviza Technology, Inc. were employed on-site at the Sandston, Virginia location of Qimonda 200MM Facility. The Department has determined that these workers were sufficiently under the control of Qimonda 200MM Facility to be considered leased workers.

Based on these findings, the Department is amending this certification to include workers leased from Aviza Technology, Inc. working on-site at the Sandston, Virginia location of the subject firm.

The amended notice applicable to TA-W-64,401 is hereby issued as follows:

All workers of Qimonda 200MM Facility, including on-site leased workers from Tokyo Electron America, Nikon Precision, Inc., Ebara Technologies, Inc., Air Products and Chemicals, Inc., PSI Repair Services, Excel Logistics, Xperts, Inc., KLA-Tencor Craftcorps, Inc., Colonial Webb and Novellus Systems, Inc., Quimonda North America Corporation, Qimonda Richmond, a subsidiary of Qimonda AG, and Aviza Technology, Inc., Sandston, Virginia who became totally or partially separated from employment on or after November 11, 2007 through December 11, 2010, are eligible to apply for adjustment assistance under Section 223 of the Trade Act of 1974, and are also eligible to apply for alternative trade adjustment assistance under Section 246 of the Trade Act of 1974.

Signed at Washington, DC this 31st day of December 2009.
Richard Church
Certifying Officer, Division of Trade Adjustment Assistance.

[FR Doc. 2010-895 Filed 1-19-10; 8:45 am]

BILLING CODE 4510-FN-P